DEPARTMENT OF TRANSPORTATION

Federal Aviation Administration

14 CFR Part 21

Certification Procedures for Products and Parts: Type Certificates; Issue of Type Certificate: Surplus Aircraft of the Armed Forces; Correction

AGENCY: Federal Aviation Administration (FAA), DOT.

ACTION: Correcting amendment.

SUMMARY: This document corrects an error that appears in the Code of Federal Regulations (CFR), title 14, as of January 1, 2004. The regulation relates to type certification of large reciprocating-engine powered airplanes that are surplus from the Armed Forces of the United States.

DATES: Effective on January 13, 2005.

FOR FURTHER INFORMATION CONTACT: Brian Yanez, phone (202) 267-5864.

SUPPLEMENTARY INFORMATION:

Need for Correction

As published in the CFR, this regulation contains an error in which the date “Aug. 25, 1959” was incorrectly substituted for the date “Aug. 25, 1955”.

List of Subjects in 14 CFR Part 21, Subpart B

Type certificates.

Accordingly, 14 CFR part 21 is corrected by making the following correcting amendments:

PART 21—CERTIFICATION PROCEDURES FOR PRODUCTS AND PARTS

(1) The authority citation for part 21 continues to read as follows:

Authority: 42 U.S.C. 7572; 49 U.S.C. 106(g), 40105, 40113, 44701-44702, 44707, 44709, 44711, 44713, 44715, 45303.

(2) In § 21.27, amend paragraph (f) by revising the dates in the table for the entry “Large reciprocating-engine powered airplanes” to read as follows:

§ 21.27 Issue of type certificate: surplus aircraft of the Armed Forces.

* * * * *

(b) * * *

* * *

Large reciprocating-engine powered airplanes: Before Aug. 26, 1955. After Aug. 25, 1955.

* * * * *

Issued in Washington, DC, on January 7, 2005.
Anthony F. Fazio,
Director, Office of Rulemaking.

[FR Doc. 05-754 Filed 1-12-05; 8:45 am]

BILLING CODE 4910-13-P